FEDERAL COMMUNICATIONS COMMISSION

Notice of Public Information Collection(s) Being Reviewed by the Federal Communications Commission, Comments Requested

March 11, 2011.

SUMMARY: The Federal Communications Commission, as part of its continuing effort to reduce paperwork burden invites the general public and other Federal agencies to take this opportunity to comment on the following information collection(s), as required by the Paperwork Reduction Act (PRA) of 1995, 44 U.S.C. 3501-3520. Comments are requested concerning: (a) Whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology, and (e) ways to further reduce the information collection burden on small business concerns with fewer than 25 employees.

The FCC may not conduct or sponsor a collection of information unless it displays a currently valid control number. No person shall be subject to any penalty for failing to comply with a collection of information subject to the Paperwork Reduction Act (PRA) that does not display a currently valid OMB control number.

DATES: Written Paperwork Reduction Act (PRA) comments should be submitted on or before May 16, 2011. If you anticipate that you will be submitting PRA comments, but find it difficult to do so within the period of time allowed by this notice, you should advise the FCC contact listed below as soon as possible.

ADDRESSES: Direct all PRA comments to the Federal Communications Commission via e-mail to PRA@fcc.gov.

FOR FURTHER INFORMATION CONTACT: Judith B. Herman, Office of Managing Director, (202) 418-0214. For additional information, contact Judith B. Herman, OMD, 202-418-0214 or e-mail judith-b.herman@fcc.gov.

SUPPLEMENTARY INFORMATION: OMB Control Number: 3060-XXXX.

Title: Implementing a Nationwide, Broadband, Interoperable Public Safety Network in the 700 MHz Band, Third Report and Order, PS Docket No. 06-229, WT Docket No. 06-150, and WP Docket No. 07-100, FCC 11-6.

Form Number: N/A.

Type of Review: New collection.

Respondents: Business or other for-profit and state, local or tribal government.

Number of Respondents and Responses: 100 respondents; 100 responses.

Estimated Time per Response: 5 hours.

Frequency of Response: One time reporting requirement.

Obligation to Respond: Required to obtain or retain benefits. Statutory authority for this information collection is contained in 47 U.S.C. sections 151,154(i), 301, 303, 332 and 337.

Total Annual Burden: 500 hours.

Total Annual Cost: N/A.

Privacy Act Impact Assessment: N/A.

Nature and Extent of Confidentiality: In general, there is no need for confidentiality. However, petitioners may request confidential treatment of their information pursuant to 47 CFR 0.459 of the Commission's rules.

Needs and Uses: The Commission adopted a Third Report and Order, PS Docket No. 06-229, FCC 11-6 that requires OMB approval for a new information collection that requires public safety broadband networks to employ the Long Term Evolution (LTE) broadband standard, specifically at least 3GPP Standard E-UTRA Release 8 and associated Evolved Packet Core (EPC). The Third Report and Order further requires that these networks support certain LTE interfaces. These requirements were designed to ensure that networks operated in this spectrum band are interoperable with one another.

The Third Report and Order also requires each operator of a 700 MHz public safety broadband network to submit a certification to the Commission's Public Safety and Homeland Security Bureau (Bureau), prior to network deployment, that its network will support the required LTE interfaces. This requirement will enable the Bureau to monitor network deployment and ensure that networks are supporting the interfaces necessary to achieve interoperability.

The Commission is seeking OMB approval for this new information collection which requires operators of public safety broadband networks to submit a certification to the Commission.

Accurate maintenance of this data is vital in developing a regulatory framework for this network. Since such a network is vital for public safety and homeland security, its proper operation must be assured.

Federal Communications Commission.
Marlene H. Dortch,
Secretary, Office of the Secretary, Office of Managing Director.

[FR Doc. 2011-6206 Filed 3-16-11; 8:45 am]

BILLING CODE 6712-01-P